FARM CREDIT ADMINISTRATION

Sunshine Act Meetings

TIME AND DATE: 9:00 a.m., Thursday, April 14, 2022.

PLACE: You may observe the open portions of this meeting in person at 1501 Farm Credit Drive, McLean, Virginia 22102-5090, or virtually. If you would like to observe, at least 24 hours in advance, visit FCA.gov, select “Newsroom,” then select “Events.” From there, access the linked “Instructions for board meeting visitors” and complete the described registration process.

STATUS: Parts of this meeting will be open to the public. The rest of this meeting will be closed to the public.

MATTERS TO BE CONSIDERED: The following matters will be considered:

PORTIONS OPEN TO THE PUBLIC:

• Approval of March 10, 2022, Minutes

• Quarterly Report on Economic Conditions and Farm Credit System Condition and Performance

• Implementation of Current Expected Credit Losses Methodology Final Rule

PORTIONS CLOSED TO THE PUBLIC:

• Office of Examination Quarterly Report on Supervisory and Oversight Activities ¹

¹ Session Closed-Exempt pursuant to 5 U.S.C. 552b(c)(8) and (9).

CONTACT PERSON FOR MORE INFORMATION: If you need more information or assistance for accessibility reasons, or if you have questions, contact Ashley Waldron, Secretary to the Board. Telephone: 703-883-4009. TTY: 703-883-4056.

Ashley Waldron,
Secretary to the Board.

[FR Doc. 2022-07505 Filed 4-5-22; 11:15 am]

BILLING CODE 6705-01-P